DEPARTMENT OF COMMERCE

International Trade Administration

Office of Information Technologies; Meeting

AGENCY: International Trade Administration, Trade Development, Commerce.

ACTION: Notice of meeting and opportunity for collaboration.

SUMMARY: The Office of Information Technologies in the U.S. Department of Commerce's International Trade Administration will conduct a public meeting on Wednesday, November 8, 2000 at 9 a.m., in room 3407, Herbert C. Hoover Building, 14th and Constitution Avenue NW., Washington, DC 20230. The purpose of the meeting is to introduce to U.S. information technology (IT) suppliers the IT Management Planning Tool, a new product for developing IT markets overseas, and to explore ways to collaborate in disseminating this product to potential users. Seating is limited. Those planning on attending the meeting should inform the Office of Information Technologies by October 27, 2000.

FOR FURTHER INFORMATION CONTACT: Tu-Trang Phan or Raymond Cho in the Office of Information Technologies at 202-482-0571 (phone), 202-482-3002 (fax), or by e-mail at ExportIT@ita.doc.gov.

SUPPLEMENTARY INFORMATION: The Office of Information Technologies in the U.S. Department of Commerce's International Trade Administration will conduct a public meeting on Wednesday, November 8, 2000 at 9 a.m., in room 3407, Herbert C. Hoover Building, 14th and Constitution Avenue NW., Washington, DC 20230. The purpose of the meeting is to introduce to U.S. information technology (IT) suppliers a new approach to IT market development overseas and explore ways to collaborate in this effort. There will be a demonstration and discussion of the IT Management Planning Tool, which was created to serve as a market stimulator for U.S. suppliers to generate demand for their IT products and services overseas. The IT Tool is a software application which helps management of businesses and government agencies assess their current IT usage and plan for future IT investments that can improve their operations. Because the IT Tool is intended for overseas audiences, the contents of the Tool will be localized and translated into several languages, including Spanish, Portuguese, Russian, Simplified Chinese, and Traditional Chinese. U.S. information technology suppliers and service providers interested in partnering with the U.S. Department of Commerce in this unique overseas market development effort should attend the meeting.

The meeting is open to the public, however, seating in room 3407 is limited and is available on a first come, first served basis. Those planning on attending the meeting should inform the Office of Information Technologies by October 27, 2000. To request further information concerning the meeting or to request a copy of the Information Technology Planning Tool, contact Tu-Trang Phan or Raymond Cho in the Office of Information Technologies at 202-482-0571 by phone, 202-482-3002 by fax, or by e-mail at ExportIT@ita.doc.gov.

Dated: October 12, 2000.
John E. McPhee,
Director, Office of Information Technologies.

[FR Doc. 00-26659 Filed 10-16-00; 8:45 am]

BILLING CODE 3510-DR-P